DEPARTMENT OF THE TREASURY

Internal Revenue Service

Proposed Collection: Comment Request for Information Returns Application for Transmitter Control Code

AGENCY: Internal Revenue Service (IRS), Treasury.

ACTION: Notice and request for comments.

SUMMARY: The Internal Revenue Service (IRS), as part of its continuing effort to reduce paperwork and respondent burden, invites the general public and other Federal agencies to take this opportunity to comment on information collections, as required by the Paperwork Reduction Act of 1995. The IRS is soliciting comments concerning, Information Returns (IR) application for Transmitter Control Code (TCC).

DATES: Written comments should be received on or before April 21, 2025 to be assured of consideration.

ADDRESSES: Direct all written comments to Andres Garcia, Internal Revenue Service, Room 6526, 1111 Constitution Avenue NW, Washington, DC 20224, or by email to pra.comments@irs.gov. Include “OMB Number 1545-0387-IR Application for TCC” in the subject line of the message.

FOR FURTHER INFORMATION CONTACT: Requests for additional information or copies of this collection should be directed to Martha R. Brinson, at (202) 317-5753, or at Internal Revenue Service, Room 6526, 1111 Constitution Avenue NW, Washington, DC 20224, or through the internet at Martha.R.Brinson@irs.gov.

SUPPLEMENTARY INFORMATION:

Title: Information Returns (IR) Application for Transmitter Control Code (TCC).

OMB Number: 1545-0387.

Publication Number: 5911.

Abstract: The IR Application for TCC is used to request authorization to participate in electronic filing of Information Returns through the Filing of Information Returns Electronically (FIRE) System. Approved applicants will be assigned a Transmitter Control Code (TCC), which is a 5-digit alpha numeric code that identifies the business transmitting the electronic returns. Publication 5911 provides a tutorial of the application and includes information about who can apply and how to use the application.

Current Actions: The IRS has obsoleted the Form 4419 and now collects the information via the IR Application for TCC.

Type of Review: Revision of a currently approved collection.

Affected Public: Business or other for-profit organizations, non-profit institutions, and Federal, State, local, or tribal governments.

Estimated Number of Respondents: 34,808.

Estimated Time per Respondent: 20 minutes.

Estimated Total Annual Burden Hours: 11,487.

The following paragraph applies to all of the collections of information covered by this notice:

An agency may not conduct or sponsor, and a person is not required to respond to, a collection of information unless the collection of information displays a valid OMB control number.

Books or records relating to a collection of information must be retained as long as their contents may become material in the administration of any internal revenue law. Generally, tax returns and tax return information are confidential, as required by 26 U.S.C. 6103.

Request for Comments: Comments submitted in response to this notice will be summarized and/or included in the request for OMB approval. Comments will be of public record. Comments are invited on: (a) whether the collection of information is necessary for the proper performance of the functions of the agency, including whether the information has practical utility; (b) the accuracy of the agency's estimate of the burden of the collection of information; (c) ways to enhance the quality, utility, and clarity of the information to be collected; (d) ways to minimize the burden of the collection of information on or other forms of information technology; and (e) estimates of capital or start-up costs and costs of operation, maintenance, and purchase of services to provide information.

Approved: February 10, 2025.
Molly J. Stasko,
Senior Tax Analyst.

[FR Doc. 2025-02671 Filed 2-14-25; 8:45 am]

BILLING CODE 4830-01-P